DEPARTMENT OF HOUSING AND URBAN DEVELOPMENT

[Docket No. FR-4914-N-01]

Mortgagee Review Board Administrative Actions

AGENCY: Office of the Assistant Secretary for Housing-Federal Housing Commissioner, HUD.

ACTION: Notice.

SUMMARY: In compliance with section 202(c) of the National Housing Act, notice is hereby given of the cause and description of certain administrative actions taken by HUD's Mortgagee Review Board against HUD-approved mortgagees. This notice of administrative actions relates solely to the failure of Title I lenders and Title II mortgagees to submit the required audited annual financial statement, an acceptable annual audited financial statement and/or payment of the annual recertification fee.

FOR FURTHER INFORMATION CONTACT: Phillip A. Murray, Director, Office of Lender Activities and Program Compliance, Room B-133-3214 L'Enfant Plaza, 451 Seventh Street, SW., Washington, DC 20410-8000, telephone: (202) 708-1515. (This is not a toll-free number.) A Telecommunications Device for Hearing- and Speech-Impaired Individuals (TTY) is available at 1-800-877-8339 (Federal Information Relay Service).

SUPPLEMENTARY INFORMATION: Section 202(c)(5) of the National Housing Act (added by section 142 of the Department of Housing and Urban Development Reform Act of 1989, Pub. L. 101-235, approved December 15, 1989), requires that HUD publish a description of and the cause for administrative actions against a HUD-approved mortgagee by the Department's Mortgagee Review Board. In compliance with the requirements of section 202(c)(5), notice is hereby given of administrative actions that have been taken by the Mortgagee Review Board from October 1, 2002 through September 30, 2003 related to the failure of Title I lenders and Title II mortgagees to submit the required audited annual financial statement, an acceptable annual audited financial statement and/or payment of the annual recertification fee.

Action: Withdrawal of HUD/FHA Title I lender approval and Title II mortgagee approval.

Cause: Failure to submit to the Department the required annual audited financial statement, an acceptable annual audited financial statement, and/or remit the required annual recertification fee.

209 Title 1 Lenders and Loan Correspondents Terminated Between October 1, 2002 and September 30, 2003
Name | City | State
A J SMITH FEDERAL SAV BANK | MIDLOTHIAN | IL
AAA EQUITY LENDING AND TRUST DEED INV | LANCASTER | CA
ABANAMCO MORTGAGE CORPORATION | ARTESIA | CA
ACCELERATED FUNDING GOVT LOANS | LAGUNA HILLS | CA
ACCESS EQUITY CORP | LAKEWOOD | CO
ADCO FINANCIAL MORTGAGE SERVICES | BRIDGETON | NJ
AFFORDABLE HOME MORTGAGE INC | ST PETERSBURG | FL
AFFORDABLE MORTGAGE LINK LLC | HOUSTON | TX
AGAWAM FEDERAL CREDIT UNION | AGAWAM | MA
ALAMEDA MUNICIPAL CREDIT UNION | ALAMEDA | CA
ALASKA USA MORTGAGE CO LLC | ANCHORAGE | AK
ALGIERS HOMESTEAD ASSOC | NEW ORLEANS | LA
ALLEN MORTGAGE LC | SANDY | UT
ALLEN PARKER COMPANY | SUGAR LAND | TX
ALLIANCE BANK OF HOT SPRINGS | HOT SPRINGS | AR
ALLIED MORTGAGE GROUP INC | BALA CYNWYD | PA
ALPINE MORTGAGE LLC | BOISE | ID
ALTA REAL ESTATE REDEVELOP CORP | RANCHO CUCAMONGA | CA
AMARIS MORTGAGE COMPANY | CHICAGO | IL
AMERICAN EAGLE MORTGAGE CO INC | VENICE | FL
AMERICAN INTNATL MTG BANKERS | LAKE SUCCESS | NY
AMERICAN INVESTMENT AND LOAN CO | LOS ANGELES | CA
AMERICAN MARINE BANK | WINSLOW | WA
AMERIFUND INC | LA VERNE | CA
AMERILENDING CORP | PICO RIVERA | CA
AMERILOAN CORPORATION | CERRITOS | CA
ANC MORTGAGE INC | MIAMI | FL
ANODYNE LENDING INC | SANTA ANA | CA
APPLETREE MORTGAGE CORP | MIAMI LAKES | FL
ARIZONA STATE SAVINGS AND CU | PHOENIX | AZ
ASMC REAL ESTATE LTD | AUSTIN | TX
ATLANTIC PACIFIC HOME LOANS INC | SAN DIEGO | CA
BANK OF BENNINGTON | BENNINGTON | VT
BANK OF GENEVA | GENEVA | IN
BANK OF SIERRA | PORTERVILLE | CA
BAY STATE SAVINGS BANK | WORCESTER | MA
BEREAN FEDERAL SAVINGS BANK | PHILADEPHIA | PA
BHL LENDING INC | CITY OF INDUSTRY | CA
BOEING EMPLOYEES CREDIT UNION | TUKWILA | WA
BSLM INC | SANTA FE SPRINGS | CA
CAL STATE RELOCATION INC | CARMICHAEL | CA
CAMBRIDGE SAVINGS BANK | CAMBRIDGE | OH
CAMBRIDGE STATE BANK | CAMBRIDGE | MN
CAMPBELL FINANCIAL SERVICES INC | WEST HAVEN | CT
CARPENTERS CREDIT UNION | SAINT PAUL | MN
CENTRAL FLORIDA MORTGAGE LOANS INC | WINTER PARK | FL
CENTRAL VALLEY HOME LOANS INC | STOCKTON | CA
CENTURY PLUS FINANCIAL GROUP INC | VENICE | FL
CHEVRON FEDERAL CREDIT UNION | OAKLAND | CA
CIRCLE MORTGAGE CORPORATION | HOLLYWOOD | FL
CITI CORPORATION | LOS ANGELES | CA
CITIZENS NATIONAL BANK | BROWNWOOD | TX
CITIZENS STATE BANK | DICKINSON | TX
COASTAL LENDING CORPORATION | LOS ANGELES | CA
COLLATERAL ONE MORTGAGE CORPORATION | FT LAUDERDALE | FL
COLONIAL IMPERIAL FINANCING INC | WEST COVINA | CA
COMMUNITY BANK EXCELSIOR SPRINGS | EXCELSIOR SPRINGS | MO
COMMUNITY FIRST NATIONAL BANK | CHEYENNE | WY
CONTEMPO MORTGAGE CORPORATION | TORRANCE | CA
CORSTAR FINANCIAL INC | PHOENIX | AZ
CPM FINANCIAL INC | ONTARIO | CA
CRESCO UNION SAVINGS BANK | CRESCO | IA
CRESTWOOD MORTGAGE INC | TORRANCE | CA
CUSTOM CAPITAL CORPORATION | MASSAPEQUA PARK | NY
D L MORTGAGE INC | SIMI VALLEY | CA
DACOTAH BANK | CLARK | SD
DEERE COMMUNITY FCU | OTTUMWA | IA
DIRECT EQUITY MORTGAGE LLC | LAS VEGAS | NV
DOVENMUEHLE MORTGAGE INC | SCHAUMBURG | IL
EAGLE HOME FINANCING INC | SANTA ANA | CA
ELITEAGENTS INC | FAIRFAX | NJ
EQUIBANC | ORANGE | CA
ESQUIRE LENDING COMPANY | MIAMI LAKES | FL
EVANS MORTGAGE CO | SACRAMENTO | CA
FAIRBANKS CAPITAL CORP | SALT LAKE CITY | UT
FARMERS BANK | FRANKFORT | IN
FINANCIAL ADVANTAGE CORP | MONROE | WA
FIRST FEDERAL SAVINGS BANK | BRYAN | TX
FIRST NATIONAL BANK | BARRON | WI
FIRST NATIONWIDE MORTGAGE CORP | FREDERICK | MD
FIRST NORTHERN SAVINGS BANK SA | GREEN BAY | WI
FIRST ONE LENDING CORP | SAN JUAN CAPISTRANO | CA
FIRST SAVINGS BANK FSB | BERESFORD | SD
FIRST SAVINGS BANK FSB | MANHATTAN | KS
FIRST STATE BANK | FINLAYSON | MN
FIRST STATE BANK | EAST POINTE | MI
FIRST UNITED BANK AND TRUST CO | DURANT | OK
FOUNTAIN GROVE MORTGAGE | SANTA ROSA | CA
FSB FUNDING INC | LOVELAND | OH
GALAXY MORTGAGE INC | TEMPLE CITY | CA
GATEWAY RESIDENTIAL FUNDING | CONCORD | CA
GENERAL MORTGAGE CORPORATION | SAN DIEGO | CA
GENUINE HOME LOANS INC | PASADENA | CA
GEORGIA MORTGAGE ASSCIATES GROUP INC | CARROLLTON | GA
GHI CORPORATION | MIAMI | FL
GLOBAL REAL ESTATE LOANS COM | WEST COVINA | CA
GLOBE INDUSTRIES EMPLOYEES CU | DAYTON | OH
GOLDSTAR FUNDING INC | HUNTINGTON BEACH | CA
GRANDCO INC | LAS VEGAS | NV
GREATBANK NA | EVANSTON | IL
GREATER BOSTON MORTGAGE INC | JAMAICA PLAIN | MA
GREENSTREET FINANCIAL GROUP INC | HUNTINGTON | NY
HALE COUNTY STATE BANK | PLAINVIEW | TX
HARVARD EQUITY CORP | TULSA | OK
HERITAGE BANK | WOOD RIVER | NE
HIGHLAND LAKES BANK | KINGSLAND | TX
HOME EQUITY STORE INC | SALT LAKE CITY | UT
HOME FINANCE CO OF AMERICA INC | HIALEAH | FL
HOME LOAN SPECIALISTS INC | LAGUNA HILLS | CA
HOME N MORTGAGE INC | HOUSTON | TX
HOMEFRONT MORTGAGE INC | TUSTIN | CA
HOMEGOLD INC | COLUMBIA | SC
HOMESIDE FUNDING CORPORATION | JACKSONVILLE | FL
HORATIO STATE BANK | HORATIO | AR
HP FINANCIAL INC | ORANGE | CA
IMC FUNDING GROUP INC | SAN DIEGO | CA
IMPERIAL FUNDING CORP | CHICAGO | IL
INDEPENDENCE BANK NA | HOUSTON | TX
INTERCHANGE STATE BANK | SADDLE BROOK | NJ
INVEST AMERICA MORTGAGE CORP | ATLANTA | GA
INVESTMENT MORTGAGE INTERNATIONAL INC | ORLANDO | FL
IOWA TRUST AND SAVINGS BANK | CENTERVILLE | IA
JAYS MORTGAGE AND FINANCE COMPANY | HOUSTON | TX
JM FUNDING CORP | WEST COVINA | CA
KSJ ENTERPRISES INC | WASHINGTON | DC
LATIN MORTGAGE FINANCE CORP | MIAMI | FL
LEADER MORTGAGE COMPANY | LENEXA | KS
LIBERTY MORTGAGE GROUP INC | WINTER PARK | FL
LOAN AMERICA | WOODLAND HILLS | CA
LOAN CORRESPONDENTS INC | COSTA MESA | CA
LOANS BY SUMMERVILLE INC | AUGUSTA | GA
LONG ISLAND FEDERAL CREDIT UNION | CARLE PLACE | NY
LOREN W ROBINSON INC | NEVADA CITY | CA
MACLOUD FINANCIAL INC | DUBLIN | OH
MANASOTA MORTGAGE AND REAL EST INVEST | SARASOTA | FL
MAYER MORTGAGE | MANSFIELD | OH
MERCANTILE BANK MIDWEST | DES MOINES | IA
MERCHANTS BANK | HOUSTON | TX
METROPOLITAN SAVINGS BANK | HIGHLAND HILLS | OH
MIAMI MORTGAGE INC | MIAMI | FL
MILLENIA MORTGAGE INC | FAIRFIELD | NJ
MILWAUKEE WESTERN BANK | MILWAUKEE | WI
MONEY TREE FINANCIAL | TEMECULA | CA
MORTGAGE CAPITAL AMERICA | LAUDERHILL | FL
MORTGAGE CO OF AMERICA | RANCHO CUCAMONGA | CA
MORTGAGE DEPOT INC | LAS VEGAS | NV
MORTGAGE FINANCE AMERICA INC | ANAHEIM | CA
MORTGAGE HOUSE | VALLE ARRIBA HGTS | PR
MORTGAGE TECHNOLOGY INC | IRVINE | CA
MOUNTAIN MORTGAGE CORPORATION | TEHACHAPI | CA
NATIONWIDE FINANCIAL CORPORATION | BREA | CA
NDNJ INC | RANCHO PALOS VERDES | CA
NEW CENTURY FUNDING CORP | LOS ANGELES | CA
NEW MILLENIUM INVESTMENTS INC | FONTANA | CA
NEWPORT FEDERAL SAVINGS AND LOAN ASSN | NEWPORT | AR
NIKKI JOON INC | ALISO VIEJO | CA
OLD COLONY MORTGAGE CORP | WEYMOUTH | MA
PACIFIC STATES MORTGAGE INC | SANTA ANA | CA
PENNINGTON MORTGAGE INC | LAS VEGAS | NV
PIONEER FEDERAL CREDIT UNION | MOUNTAIN HOME | ID
POSTAL EMPLOYEES CREDIT UNION | MEMPHIS | TN
PREFERRED MORTGAGE GROUP INC | VIENNA | VA
PRIMARY MORTGAGE GROUP INC | MONARCH BEACH | CA
PRIME LINE MORTGAGE CORP | SHERMAN OAKS | CA
PROMILAND MORTGAGE CORPORATION | POMPANO BEACH | FL
PROVIDENT BANK | JERSEY CITY | NJ
PULASKI MORTGAGE COMPANY | LITTLE ROCK | AR
PYRAMID MORTGAGE INC | SHORELINE | WA
QFUND FINANCIAL INC | BELLEVUE | WA
QUALITA FINANCIAL GROUP INC | CORAL GABLES | FL
RAINBOW CAPITAL MORTGAGE CORPORATION | CARSON | CA
REAL ESTATE FINAN ASSESSORS | MONTEBELLO | CA
REAL ESTATE PLUS MORTGAGE | REDONDO BEACH | CA
RED CEDAR BANK NATIONAL ASSOCIATION | BOYCEVILLE | WI
RICHARD THOMAS MORTGAGE | LAGUNA NIGUEL | CA
RIVER BANK | HOLMEN | WI
RIVERWAY BANK | HOUSTON | TX
RMI COMPANY EMPLOYEES CU INC | NILES | OH
ROXBOROUGH-MANAYUNK FED S-L | PHILADELPHIA | PA
SEACOAST EQUITIES INC | LA MESA | CA
SEACORP MORTGAGE AND FINANCIAL | SANTA MARIA | CA
SECTION 705 FEDERAL CREDIT UN | LAFAYETTE | LA
SECURITY BANK USA | BEMIDJI | MN
SECURITY SERVICE FEDERAL CU | SAN ANTONIO | TX
SECURITY STATE BANK | DEER CREEK | MN
SHOREBANK | CHICAGO | IL
SOLARO FINANCIAL INC | RANCHO PALOS VERDES | CA
SOVEREIGN BANK FSB | WYOMISSING | PA
SPENCER SAVINGS BANK | SPENCER | MA
STATE BANK | TOLEDO | IA
STATE BANK OF MOORHEAD | MOORHEAD | MN
STERLING BANK | HOUSTON | TX
SWAN INVESTMENTS INTERNATIONAL INC | COVINA | CA
TEXAS STAR FEDERAL CU | TEXAS CITY | TX
TRAVELERS BANK AND TRUST FSB | NEWARK | DE
TROY SAVINGS BANK | TROY | NY
UNDERLINE INCORPORATED | SANTA ANA | CA
UNION ADVANTAGE HOME LOANS INC | LODI | CA
UNION CITY SAVINGS BANK | UNION CITY | NJ
UNITED LENDING PARTNERS LTD | DALLAS | TX
UNITED NORTHERN MTG BANKERS LTD | LEVITTOWN | NY
UNIVERSITY CREDIT UNION | BOSTON | MA
VENTURE ONE MORTGAGE CORPORATION | NATIONAL CITY | CA
VILLAGE REALTY AND HOME LN INC | SAN JOSE | CA
W D WICKLEY INC | RANCHO CUCAMONGA | CA
WALMAR FINANCIAL CORPORATION | IRVINE | CA
WASHINGTON MUTUAL BANK FA NAMC | SANTA ROSA | CA
WESTCAL MORTGAGE CORP | SANTA ANA | CA
YIG INC | SOUTH WEST COVINA | CA

735 Title 2 Mortgagees and Loan Correspondents Terminated Between October 1, 2002 and September 30, 2003
Name | City | State
A HOME FOR YOU INC | CLOVIS | CA
A MORTGAGE STORE INC | CLERMONT | FL
A ONE A MORTGAGE CENTER INC | FLAGLER BEACH | FL
AAA HOME LOANS INC | MIAMI | FL
AAV REAL ESTATE MORTGAGE EXCHANGE INC | LA CANADA | CA
ABM MORTGAGE LLC | WHEAT RIDGE | CO
ACADIAN MORTGAGE COMPANY | LAFAYETTE | LA
ACCELERATED FUNDING GOVT LOANS | LAGUNA HILLS | CA
ACCESS EQUITY CORP | LAKEWOOD | CO
ACCESS FINANCIAL NETWORK INC | HUNTINGTON BEACH | CA
ACCESS FUNDING INC | SAN ANTONIO | TX
ACE MORTGAGE COMPANY | CINCINNATI | OH
ACUMEN INVESTMENTS CORPORATION INC | MIAMI | FL
ADVANTAGE FIRST MORTGAGE INC | BEAVERTON | OR
ADVANTAGE MORTGAGE CORPORATION | WEST DENNIS | MA
ADVANTAGE MORTGAGE GROUP | EVERETT | WA
AFFILIATED BANC CORP | SCHAUMBURG | IL
AFFILIATED MORTGAGE SERVICES CORP | WAKEFIELD | MA
AFFINITY MORTGAGE GROUP INC | BOCA RATON | FL
AFFORDABLE LENDERS INC | AUBURN | CA
AFFORDABLE WALLS MORTGAGE CORPORATION | CLERMONT | FL
AGENT MORTGAGE LLC | MESA | AZ
AI FINANCIAL SERVICES INC | LAUDERHILL | FL
AJ CAPCO LLC | LAS VEGAS | NV
ALGIERS HOMESTEAD ASSOC | NEW ORLEANS | LA
ALL AMERICAN MORTGAGE FINANCIAL INC | ATLANTA | GA
ALLEGRO MORTGAGE SERVICES LLC | MCKINNEY | TX
ALLEN PARKER COMPANY | SUGAR LAND | TX
ALLIANCE HOME MORTGAGE CORPORATION | MICHIGAN CITY | IN
ALLIANCE MORTGAGE CORP | VILLA PARK | IL
ALLSTATE FINANCIAL GROUP LLC | BEACHWOOD | OH
ALLSTATE MORTGAGE SERVICES INC | LANHAM | MD
ALPINE MORTGAGE LLC | BOISE | ID
ALTERNATIVE LENDING GROUP INC | PHOENIX | AZ
ALTERNATIVE LENDING SERVICES LLC | JEFFERSON | LA
AMBASSADOR CAPITAL CORPORATION | LA CRESCENTA | CA
AMBASSADOR FUNDING AND INVESTMENTS INC | VALLEY SPRINGS | CA
AMERICA ONE MORTGAGE COMPANY | BAD AXE | MI
AMERICA TWO THOUSAND CORPORATION | DOWNEY | CA
AMERICAN ALLIANCE LLC | CARMEL | IN
AMERICAN BANK OF THE LEHIGH VALLEY | ALLENTOWN | PA
AMERICAN COMMUNITY BANK OF GEORGIA | MCDONOUGH | GA
AMERICAN CONTINENTAL FUNDING CORP | WHITTIER | CA
AMERICAN DREAM MORTGAGE LENDERS | FORT LAUDERDALE | FL
AMERICAN FUNDING INC | CHICAGO | IL
AMERICAN HOME MORTGAGE GROUP INC | ST CHARLES | IL
AMERICAN HOME MORTGAGE-NO INDIANA INC | VALPARAISO | IN
AMERICAN INVESTMENT AND LOAN CO | LOS ANGELES | CA
AMERICAN LENDING INSTITUTE INC | SAN CLEMENTE | CA
AMERICAN MARINE BANK | BAINBRIDGE ISLAND | WA
AMERICAN MORTGAGE ACCEPTANCE LLC | BRICK | NJ
AMERICAN MORTGAGE CORPORATION | BAYAMON | PR
AMERICAN MORTGAGE LENDING INC | OKLAHOMA CITY | OK
AMERICAN NATIONAL BANK AND TR | CHICAGO | IL
AMERICAN SUCCESS COMPANY INC | NEW YORK | NY
AMERICAN UNITED LIFE INS CO | INDIANAPOLIS | IN
AMERICITIES COMMUNITY MORTGAGE CORP | COMMERCE | CA
AMERIFINANCIAL HOME MORTGAGE INC | BARRINGTON | IL
AMERIFIRST CORPORATION | TULSA | OK
AMERILOAN CORPORATION | CERRITOS | CA
AMEX MORTGAGE CORPORATION | TEMPE | AZ
AMWEST FINANCIAL INC | HOUSTON | TX
ANB MORTGAGE COMPANY | EVANSTON | IL
ANTHONY MORTGAGE CORP | WEST LONG BRANCH | NJ
A-PAN-AMERICAN MORTGAGE GROUP | CHICAGO | IL
APPROVED MORTGAGE ASSOCIATION INC | DALLAS | TX
ASSOC INVEST U S GUAR ASS INC | NORWALK | CT
ASSOCIATED FINANCIAL SVCS INC | NORTHBROOK | IL
ASSOCIATED MORTGAGE LLC | WESTCHESTER | IL
ASSOCIATES FIRST CAPITAL MORTGAGE CORP | IRVING | TX
ASSOCIATES TRADE FINANCE CORP | MIAMI | FL
ASTON FINANCIAL GROUP | SANTA ROSA | CA
ATLANTA CAPITAL MORTGAGE INC | NORCROSS | GA
ATLANTIC PACIFIC HOME LOANS INC | SAN DIEGO | CA
ATM FINANCIAL SERVICES INC | ST PETERSBURG | FL
AUTOMATED FINANCIAL SERVICES LLC | SALT LAKE CITY | UT
AVANTI MORTGAGE SERVICES INC | HOUSTON | TX
AVILES MORTGAGE LLC | TAMPA | FL
BACK BAY INC | NOKOMIS | FL
BANCO FINANCIERO DE PUERTO RIC | PONCE | PR
BANCOKLAHOMA MORTGAGE CORP | TULSA | OK
BANK M MORTGAGE GROUP INC | MURFREESBORO | TN
BANK M MORTGAGE TRUST INC | MURFREESBORO | TN
BANK OF COLUMBIA | COLUMBIA | KY
BANK OF DYER | HUMBOLDT | TN
BANK OF JACOMO | BLUE SPRINGS | MO
BANK OF LOUISIANA | LOUISIANA | MO
BANK OF MCCREARY COUNTY | WHITLEY CITY | KY
BANK OF MILAN | MEDINA | TN
BANK OF NASHVILLE | NASHVILLE | TN
BANK OF THE CAROLINAS | LANDIS | NC
BANK OF TRAVELERS REST | TRAVELERS REST | SC
BANK TEN | BELTON | MO
BANKERS AMERICAN MORTGAGE CORPORATION | HOLLYWOOD | FL
BANKERS GROUP MORTGAGE CO | LAFAYETTE | CO
BANKUNITED | CORAL GABLES | FL
BARCLAYS MORTGAGE COMPANY | STREAMWOOD | IL
BEACON FINANCIAL MORTGAGE | MIAMI | FL
BEAVER DAM DEPOSIT BANK | BEAVER DAM | KY
BEDFORD FEDERAL SAVINGS BANK | BEDFORD | IN
BEST RATE LLC | CHICAGO | IL
BHL LENDING INC | CITY OF INDUSTRY | CA
BMRG ENTERPRISES | COVINA | CA
BMS MORTGAGE SERVICES INC | FOUNTAIN HILLS | AZ
BOARDWALK MORTGAGE INC | ATLANTA | GA
BORINQUEN MORTGAGE CORP | ORLANDO | FL
BORROWER'S ADVANTAGE MORTGAGE CORP | TAMPA | FL
BOULDER FINANCIAL CORPORATION | UPLAND | CA
BPA BANK NATIONAL ASSOCIATION | NEWARK | NJ
BRANCO MORTGAGE CO INC | CINCINNATI | OH
BREWER MORTGAGE COMPANY | BARTLETT | TN
BRICKTON MORTGAGE CORPORATION | PARK RIDGE | IL
BRIGHTON BANK | MEMPHIS | TN
BRIT AND BRIGGS MORTGAGE CONSULTANTS LLC | MANCHESTER | NH
BROADWAY NATIONAL BANK | SAN ANTONIO | TX
BROKER ONE LENDING LLC | EVERGREEN | CO
BRONCO INVESTMENTS INC | ENCINO | CA
BSLM INC | SANTA FE SPRINGS | CA
BUENA VISTA MORTGAGE CO | BAKERSFIELD | CA
BURKE VENTURES INC | GRASS VALLEY | CA
BUSINESS MORTGAGE INC | CLEARWATER | FL
CAL CITIES MORTGAGE INC | LOS ALAMITOS | CA
CAL STATE RELOCATION INC | CARMICHAEL | CA
CALIFORNIA DISCOUNT MORTGAGE | COVINA | CA
CAMBRIDGE MORTGAGE GROUP | BOSTON | MA
CAMBRIDGE SAVINGS BANK | CAMBRIDGE | OH
CAMBRIDGE STATE BANK | CAMBRIDGE | MN
CAMERON FINANCIAL GROUP INC | SAN LUIS OBISPO | CA
CAPITAL BANC MORTGAGE INC | COLUMBUS | OH
CAPITAL MORTGAGE AND ASSOCIATES | HOLLYWOOD | FL
CAPITAL PLUS MORTGAGE LLC | BEDFORD | TX
CAPITAL VALLEY MORTGAGE INC | SACRAMENTO | CA
CAPSTONE LENDING AND INVESTMENT INC | LEESBURG | FL
CAPSTONE LENDING CORP | CERRITOS | CA
CAROLINA FIRST MORTGAGE | LEXINGTON | SC
CASA MORTGAGE INC | HOUSTON | TX
CASINO MORTGAGE | MIAMI | FL
CEDAR FUNDING GROUP INC | LARGO | MD
CENTRAL FLORIDA MORTGAGE LOANS INC | WINTER PARK | FL
CENTRAL HOME MORTGAGE CORP | LINCOLNWOOD | IL
CENTRAL MORTGAGE SERVICES | RIDGELAND | MS
CENTRAL PACIFIC BANK | HONOLULU | HI
CENTRAL VALLEY HOME LOANS | STOCKTON | CA
CENTRO FINANCIERO HISPANO AM LLC | SANDY | UT
CENTURION MORTGAGE CO LLC | MARYVILLE | TN
CENTURY FUNDING LTD | NORCROSS | GA
CENTURY PLUS FINANCIAL GROUP INC | VENICE | FL
CHARTER MORTGAGE COMPANY | ALBUQUERQUE | NM
CHICAGOLAND MORTGAGE CORP | PARK RIDGE | IL
CHOICE CAPITAL FUNDING INC | ALPHARETTA | GA
CHOICE MORTGAGE INC | SKOKIE | IL
CHRISTIAN BENEFIT MORTGAGE CO | JACKSONVILLE | FL
CITI CORPORATION | LOS ANGELES | CA
CITIZENS NATIONAL BANK NORWALK | NORWALK | OH
CITIZENS SAVINGS BANK | BLOOMINGTON | IL
CITY BANK | HONOLULU | HI
CITY NATIONAL BANK | MIAMI | FL
CITY NATIONAL BANK AND TR CO | HASTINGS | NE
CLASSIC ONE MORTGAGE LLC | MISHAWAKA | IN
CMS FINANCIAL SERVICES INC | ROSELLE | IL
CNH FUNDING INC | LAS VEGAS | NV
COAST FUNDING CORP | SAN JOSE | CA
COASTAL BANK | SAVANNAH | GA
COASTAL LENDING CORPORATION | LOS ANGELES | CA
COASTAL MORTGAGE LENDERS INC | NAPLES | FL
COLONIAL IMPERIAL FINANCIAL | WEST COVINA | CA
COLONIAL MORTGAGE CORP | JERICHO | NY
COLORADO TIERRA MORTGAGE INC | DENVER | CO
COLUMN FINANCIAL INC | ATLANTA | GA
COMMERCE BANK AND TRUST CO | WORCESTER | MA
COMMON CENTS COMPANY | SALT LAKE CITY | UT
COMMONWEALTH CAPITAL MTG CORP | BIRMINGHAM | AL
COMMUNITY BANK DESOTO COUNTY | SOUTHAVEN | MS
COMMUNITY BANK EXCELSIOR SPRIN | EXCELSIOR SPRINGS | MO
COMMUNITY BANK VERNON CENTER | MANKATO | MN
COMMUNITY BANKING COMPANY OF FITZGERALD | FITZGERALD | GA
COMMUNITY FEDERAL SAVINGS ALA | LITTLE FALLS | MN
COMMUNITY FIRST NATIONAL BANK | FARGO | ND
COMMUNITY FIRST STATE BANK | VERMILLION | SD
COMMUNITY HOME MORTGAGE CORP | MELVILLE | NY
COMMUNITY LENDERS LLC | MONTICELLO | MN
COMMUNITY MORTGAGE NETWORK LLC | CINCINNATI | OH
COMMUNITY NATIONAL BANK | NORTH BRANCH | MN
COMMUNITY SAVINGS BANK | BURLINGTON | NC
COMMUNITY WIDE FEDERAL CREDIT UNION | SOUTH BEND | IN
CONCORDIA MORTGAGE LLC | LAS VEGAS | NV
CONSOLIDATED MORTGAGE CORPORATION | LAS VEGAS | NV
CONSTRUCTION FUNDING CORPORATION | SCHAUMBURG | IL
CONTEMPO MORTGAGE CORPORATION | MONTEREY PARK | CA
CORNERSTONE NATIONAL BANK | EASLEY | SC
CORTRUST BANK | MITCHELL | SD
COUNTRY HOME MORTGAGE INC | CORAL SPRINGS | FL
COUNTRY MORTGAGE SERVICES INC | ARLINGTON HEIGHTS | IL
COUNTRYSIDE LENDING OF TEXAS LC | HEBER CITY | UT
COUNTRYSIDE MORTGAGE INC | WHEELING | IL
COUNTY MORTGAGE USA INC | SAN DIEGO | CA
COUNTY TRUST MORTGAGE CORP | MIAMI | FL
COVENANT FEDERAL CREDIT UNION | BROKEN ARROW | OK
CREATIVE FINANCIAL CENTER CORP | LUTZ | FL
CREATIVE MORTGAGE INC | ENGLEWOOD | CO
CREATIVE MORTGAGE LENDING | DESOTO | TX
CRESCO UNION SAVINGS BANK | CRESCO | IA
CRESTWOOD MORTGAGE INC | TORRANCE | CA
CROWN FINANCIAL SERVICES CORP | BRENTWOOD | TN
CRYSTAL MORTGAGE SERVICES INC | ORLANDO | FL
CUSTOM CAPITAL CORP | MASSAPEQUA PARK | NY
CYBERLOANOFFICER-COM INC | SCHAUMBURG | IL
D C STARKS MORTGAGE ASSOCIATES INC | BOURBONNAIS | IL
DALLAS PLANNING GROUP | WAXAHACHIE | TX
DALTON NORTH COAST INC | BEACHWOOD | OH
DELAWARE ALLIANCE FEDERAL CREDIT UNION | NEW CASTLE | DE
DENISON STATE BANK | HOLTON | KS
DEVELOPERS MARKETING AND MORT SRVS INC | NEWPORT BEACH | CA
DIRECT LENDING CORP | RAMONA | CA
DIRECT MORTGAGE LLC | MERRILLVILLE | IN
DISCOVER MORTGAGE INC | ALBUQUERQUE | NM
DISTINCTIVE MORTGAGES LLC | LAKEWOOD | CO
DIVERSIFIED CAPITAL CORP OF TENNESSEE | MEMPHIS | TN
DIVERSIFIED FINANCIAL GROUP | RIDGEWOOD | NJ
DIVERSIFIED MORTGAGE INC | LIVONIA | MI
DIVERSIFIED RESIDENTIAL FUNDING | ALTAMONTE SPRINGS | FL
DOVENMUEHLE MORTGAGE CO L P | SCHAUMBURG | IL
DOVENMUEHLE MORTGAGE INC | SCHAUMBURG | IL
DRH MORTGAGE LLC | CORONA | CA
DULANY ENTERPRISES | SIGNAL HILL | CA
DUNCANVILLE MORTGAGE COMPANY | DUNCANVILLE | TX
EADOIN MORTGAGE NETWORK INC | LOS ANGELES | CA
EAGLE HOME FINANCING INC | SANTA ANA | CA
EASTERN SAVINGS BANK FSB | HUNT VALLEY | MD
EASTWIND FINANCIAL GROUP INC | TEMECULA | CA
EIDON FINANCIAL INC | SAN DIEGO | CA
ELITE FINANCIAL GROUP INC | BRIGHTON | CO
ELITEAGENTS MORTGAGE SERVICES INC | FAIRFIELD | NJ
ELSEA FINANCIAL SERVICES | CIRCLEVILLE | OH
EM N EM INC | MIAMI | FL
EMBASSY MORTGAGE INC | BATON ROUGE | LA
EMIGRANT MORTGAGE COMPANY INC | ELMSFORD | NY
ENDEAVOUR MORTGAGE INC | LARGO | FL
ENR FINANCIAL SERVICES INC | SCOTTSDALE | AZ
EPONA MORTGAGE CAPITAL INC | STOCKTON | CA
EQUIBANC | ORANGE | CA
EQUITABLE MORTGAGE SERVICES INC | MIAMI LAKES | FL
EQUITY FINANCIAL CORPORATION | SACRAMENTO | CA
EQUITY PLUS INC | RAVENNA | OH
ESQUIRE LENDING COMPANY | MIAMI LAKES | FL
ESTATE MORTGAGE INC | TUSTIN | CA
EXCEL FUNDING INC | VANCOUVER | WA
EXCELSIOR MORTGAGE LLC | FLEMINGTON | NJ
EXCHANGE BANK AND TRUST CO | NATCHITOCHES | LA
EXECUTIVE CAPITAL GROUP INC | RANCHO CUCAMONGA | CA
EXECUTIVE FUNDING CORPORATION | MIAMI | FL
EXECUTIVE FUNDING OF PLACERVILLE INC | PLACERVILLE | CA
FAIRWAY FUNDING GROUP INC | CORAL SPRINGS | FL
FARMERS AND MERCHANT BANK | STUTTGART | AR
FARMERS AND MERCHANTS BANK | GRANITE QUARRY | NC
FARMERS BANK | GREENWOOD | AR
FEDERAL EMPLOYEES CREDIT UNION | OKLAHOMA CITY | OK
FICORE MORTGAGE INC | SAN DIEGO | CA
FIDELITY FIRST LENDING INC | OWINGS MILLS | MD
FIDELITY FUNDING CORPORATION | KIRKWOOD | MO
FIDELITY MORTGAGE SERVICES | ROCKVILLE | MD
FIDELITY MORTGAGE TRUST CORP | MIAMI | FL
FINANCIAL CENTER CREDIT UNION | STOCKTON | CA
FINANCIAL EXPERTS ONE INC | NORTH MIAMI BEACH | FL
FINSERV CAPITAL MORTGAGE INC | COVINA | CA
FIRST ADVANTAGE MORTGAGE COMPANY | GAITHERSBURG | MD
FIRST AMERICAN EQUITY CORP | CLEVELAND | TN
FIRST AMERICAN MORTGAGE HOLDINGS INC | DENVER | CO
FIRST ANDOVER MORTGAGE CORP | EAST PROVIDENT | RI
FIRST BANK OF SOUTH ARKANSAS | CAMDEN | AR
FIRST BOSTON MORTGAGE CORP | WOBURN | MA
FIRST CALIFORNIA ENTERPRISES INC | ALAMO | CA
FIRST CHOICE FINANCIAL SERVICES LTD | ALBRIGHTSVILLE | PA
FIRST CHOICE MORTGAGE CORPORATION | BLOOMINGDALE | IL
FIRST CHOICE MORTGAGE INC | TEMPE | AZ
FIRST CITY BANK | COLUMBUS | OH
FIRST CITY FUNDING | WOODSIDE | NY
FIRST COMMERCIAL BANK | CHICAGO | IL
FIRST COMMERCIAL BANK OF FLORIDA | ORLANDO | FL
FIRST COMMUNITY BANK | HARBOR SPRINGS | MI
FIRST COUNTY BANK | NEW BADEN | IL
FIRST EQUITY BANC A MORTGAGE CORP | INDEPENDENCE | MO
FIRST FEDERAL SAVINGS BANK | MONESSEN | PA
FIRST IN SERVICE MORTGAGES INC | FRANKLIN SQUARE | NY
FIRST LIBERTY FEDERAL CREDIT UNION | GREAT FALLS | MT
FIRST MADISON VALLEY BANK | ENNIS | MT
FIRST MORTGAGE LLC | MEQUON | WI
FIRST NATIONAL BANK | HAWLEY | MN
FIRST NATIONAL BANK | RIVER FALLS | WI
FIRST NATIONAL BANK BROWNFIELD | TERRY | TX
FIRST NATIONAL BANK OF IPSWICH | IPSWICH | MA
FIRST NATIONAL BANK OF LAKE CITY CREEDE | LAKE CITY | CO
FIRST NATIONAL MORTGAGE SERVICES INC | ELK RIVER | MN
FIRST NAT'L BK AND TR CO TREASURE COAST | STUART | FL
FIRST NORTHERN SAVINGS BANK | GREEN BAY | WI
FIRST PALMETTO SAVINGS BANK FSB | CAMDEN | SC
FIRST PREFERRED MTG OF FL INC | FORT LAUDERDALE | FL
FIRST PRIME RATE MORTGAGE INC | ORLANDO | FL
FIRST REALTY MORTGAGE CORP | ALPHARETTA | GA
FIRST REPUBLIC MORTGAGE CORPORATION | LOUISVILLE | KY
FIRST SAVINGS AND LOAN ASSN | DEDEDO | GU
FIRST SAVINGS AND LOAN ASSN | SOUTH HOLLAND | IL
FIRST SECURITY BANK | BATESVILLE | MS
FIRST SECURITY BANK—WEST | BEULAH | ND
FIRST STATE MORTGAGE CORP | FORT WORTH | TX
FIRST TEXAN MORTGAGE GROUP INC | HOUSTON | TX
FIRST TRUST FINANCIAL INC | WEYMOUTH | MA
FIRST UNITED MORTGAGE SVCS INC | MECHANICSBURG | PA
FIVE STAR FINANCIAL LLC | HUDSONVILLE | MI
FIVE STAR MORTGAGE SERVICES | GREEN BAY | WI
FLEETWOOD FUNDING CORP | PLANTATION | FL
FLINT HILLS BANK OF ESKRIDGE | OSAGE CITY | KS
FLORIDA FINAN MGMT MORTGAGE | TAMPA | FL
FOCUS FINANCIAL GROUP INC | DURHAM | NC
FOOD PROCESSORS CREDIT UNION | MODESTO | CA
FOREST PARK NATIONAL BANK | FOREST PARK | IL
FOUR OAKS BANK AND TRUST CO | FOUR OAKS | NC
FRANKLIN MORTGAGE AND FINANCIAL SVCS LLC | TOLEDO | OH
FRANKLIN SAVINGS BANK | FRANKLIN | NH
FIRST NATIONAL BANK OF OTTAWA | OTTAWA | IL
FROLANDER AND ASSOCIATES INC | VISTA | CA
FRONT STREET FINANCIAL | TEMECULA | CA
FRONTIER BANK | ROCK RAPIDS | IA
GALAXY MORTGAGE INCORPORATED | TEMPLE CITY | CA
GALAXY TRUST MORTGAGE CORP | MIAMI | FL
GARBER FINANCIAL INC | SAN DIEGO | CA
GCN INC DBA GENEVA CAPITAL NETWORK | HUNTINGTON BEACH | CA
GELIN AND ASSOCIATES INC | MARIETTA | GA
GENERAL MORTGAGE CORPORATION | PLEASANT RIDGE | MI
GENESEE REGIONAL BANK | ROCHESTER | NY
GENEVA STATE BANK | GENEVA | NE
GEORGIA BANK AND TRUST | CALHOUN | GA
GEORGIA MORTGAGE ASSOCIATES GROUP INC | CARROLLTON | GA
GERMAN AMERICAN BANK | JASPER | IN
GHI CORPORATION | MIAMI | FL
GIBRALTAR CAPITAL CORPORATION | IRVINE | CA
GLENFED MORTGAGE CORPORATION | SAN DIEGO | CA
GLOBAL LENDING GROUP INC | CLEARWATER | FL
GLOBAL MORTGAGE COMPANY | CHICAGO | IL
GLOBAL MORTGAGE CORPORATION | HATO REY | PR
GLOBAL REAL ESTATE LOANS COM | WEST COVINA | CA
GMR MORTGAGE CORP | MIDDLESEX | NJ
GOLD COAST FINANCIAL LLC | NEWTOWN | CT
GOLD VALLEY LOANS INC | SACRAMENTO | CA
GOLDEN FINANCIAL SERVICES INC | HOUSTON | TX
GOLDEN MORTGAGE CORPORATION | BRIDGEWATER | NJ
GOLDSTAR FUNDING INC | HUNTINGTON BEACH | CA
GRANDCO INC | LAS VEGAS | NV
GREAT HOME MORTGAGE COMPANY | ENGLEWOOD | CO
GREAT LAKES MORTGAGE CORP | MIAMI | FL
GREAT NORTHERN MORTGAGE CORP | ST LOUIS PARK | MN
GREATER BOSTON MORTGAGE INC | JAMAICA PLAIN | MA
GREATER CLARK COUNTY MORTGAGE INC | VANCOUVER | WA
GREATLAND FINANCIAL CORPORATION | TUSTIN | CA
GREENPARK MORTGAGE CORPORATION | NEEDHAM | MA
GREENSTREET FINACIAL GROUP INC | HUNTINGTON | NY
GUARANTY MORTGAGE FINANCIAL SRVCS LLC | MILFORD | CT
HANCOCK BANK OF LOUISIANA | BATON ROUGE | LA
HARBORSTONE CREDIT UNION | TACOMA | WA
HARMONY MORTGAGE INC | LOVELAND | CO
HARRIS TRUST BANK OF ARIZONA | SCOTTSDALE | AZ
HEARTLAND MORTGAGE AND R E SERVICES INC | DAWNERS GROVE | IL
HELMS MORTGAGE ASSOC INC | BROOKSVILLE | FL
HENNESSY MORTGAGE GROUP INC | CROWLEY | TX
HERITAGE MORTGAGE CORPORATION | ROSEVILLE | CA
HERITAGE MORTGAGE INC | AUSTIN | TX
HERITAGE MORTGAGE LTD PARTSHIP | COLUMBIA | MD
HERITAGE USA MORTGAGE LLC | MEMPHIS | TN
HERKIMER COUNTY TRUST COMPANY | LITTLE FALLS | NY
HIGH STREET BANKING COMPANY | HICKORY | NC
HOME CAPITAL PLUS INC | WEBSTER | FL
HOME FINANCE CO OF AMERICA INC | HIALEAH | FL
HOME FUNDING CORPORATION | MAITLAND | FL
HOME LENDING CENTER INC | TAMARAC | FL
HOME PLUS MORTGAGE INC | ESCONDIDO | CA
HOME REALTY AND MANAGEMENT CO | CHARLOTTE | NC
HOMEGOLD INC | COLUMBIA | SC
HOMEOWNERS FINANCIAL SERVICES INC | MCFARLAND | WI
HOMESIDE FUNDING CORPORATION | JACKSONVILLE | FL
HOMETOWN FINANCIAL PARTNERS LP | FORT LAUDERDALE | FL
HOMETOWN NATIONAL BANK | NEW ALBANY | IN
HUNTER MORTGAGE CORPORATION | ENFIELD | CT
IBM TEXAS EMPLOYEES FEDERAL CR UN | AUSTIN | TX
ICON FUNDING CORP | MONTEREY PARK | CA
IMIX MORTGAGE COMPANY INC | PHOENIX | AZ
INDEPENDENCE COMMUNITY BANK | BROOKLYN | NY
INDEPENDENCE FINANCIAL CORP | WASHINGTON | DC
INFINITY FINANCIAL SERVICES INC | DOWNEY | CA
INFINITY HOME LOAN INC | NORCROSS | GA
INLAND EMPIRE BANK | HERMISTON | OR
INNOVATION FUNDING INC | SILVER SPRING | MD
INNOVATIVE FUNDING LLC | DENVER | CO
INTEGRA CAPITAL FUNDING LLC | ROSWELL | GA
INTER CONTINENTAL LENDING CORP | LOS ANGELES | CA
INVESTORS OF AMERICA INC | OAKLAND PARK | FL
INVESTORS PLUS INC | VAN NUYS | CA
ISLE PACIFICA MORTGAGE | SAN DIEGO | CA
J AND F INC | UPLAND | CA
J MORGAN FUNDING INC | FOLSOM | CA
J R DAVIDSON INC | CORNELIUS | NC
J RINDOCK MORTGAGE COMPANY | ALLENTOWN | PA
JAM CAPITAL INC | SANTA ANA | CA
JAMES MORTGAGE CORPORATION | DES MOINES | IA
JAYS MORTGAGE AND FINANCE CO | HOUSTON | TX
JEFFERSON MORTGAGE INC | KILL DEVIL HILLS | NC
JM FUNDING CORP | ONTARIO | CA
JM MORTGAGE CORPORATION | SANATA ANA | CA
JNA CAPITAL INC | PHILADELPHIA | PA
JOHNSON COMPANY LLC | BIRMINGHAM | AL
JOPLIN METRO CREDIT UNION | JOPLIN | MO
K MILES INC | TAMARAC | FL
KALA INVESTMENTS INC | NEWPORT BEACH | CA
KAW VALLEY MORTGAGE INC | TOPEKA | KS
KEMPER FINANICAL INC | DAYTON | OH
KEYSTONE MORTGAGE WHOLESALE LENDER INC | ANDERSON | IN
KLEIN GROUP LLC | EDWARDS | CO
L AND H MANAGEMENT GROUP INC | MIAMI | FL
LA MORTGAGE INC | NORTHRIDGE | CA
LABETTE COUNTY STATE BANK | ALTAMONT | KS
LAKESHORE MORTGAGE INCORPORATED | ROCKY RIVER | OH
LANCASTER MORTGAGE SERVICES COMPANY | LANCASTER | PA
LANDVIEW FINANCIAL INC | LOS ANGELES | CA
LBA SAVINGS BANK | LAFAYETTE | LA
LCB HOME LOANS INC | FAYETTEVILLE | TN
LENDING GROUP | NEWPORT BEACH | CA
LENDING GROUP INC | FT MEYERS | FL
LEXIE MORTGAGE INC | WINDER | GA
LHSK INC | HOUSTON | TX
LIBERTY LENDING SERVICES INC | WILMINGTON | OH
LIBERTY NATIONAL BANK | BRADENTON | FL
LINCOLN MORTGAGE BROKERS LLC | LAKEWOOD | CO
LINDA SPIVEY INC | AUBURNDALE | FL
LISH MORTGAGE CORPORATION | TREMONTON | UT
LOAN AMERICA | WOODLAND | CA
LOAN AMERICA MORTGAGE CORP | DALLAS | TX
LOAN LINES INC | TARZANA | CA
LOANS BY SUMMERVILLE INC | HEPHZIBAH | GA
LONE STAR UNITED MORTGAGE SER OF AMERICA | LAKE DALLAS | TX
LONGHORN MORTGAGE INC | GRAND PRAIRIE | TX
LOREN W ROBINSON INC | NEVADA CITY | CA
LUZAL INC | MIRA LOMA | CA
MAGIC CITY FUNDING INC | BIRMINGHAM | AL
MAIN STREET HOME MORTGAGE CORP | BELLWOOD | IL
MAIN STREET MORTGAGE LLC | LOUISVILLE | CO
MAINBANK NA | DALLAS | TX
MANASOTA MORTGAGE AND REAL EST INVEST | SARASOTA | FL
MANHATTAN MORTGAGE CORP | CERRITOS | CA
MANVILLE AREA FED CREDIT UNION | MANVILLE | NJ
MARKEE FINANCIAL GROUP INC | CHEYENNE | WY
MARKETPLACE MORTGAGE LLC | WEST HARTFORD | CT
MASSACHUSETTS CAPITAL MORTGAGE CORP | DEDHAM | MA
MAXIMUM FUNDING LLC | VIRGINIA BEACH | VA
MAYER MORTGAGE CORPORATION | MANSFIELD | OH
MC JAMES MORTGAGE CORPORATION | LAGUNA NIGUEL | CA
MC MORTGAGE BANC | CHICAGO | IL
MCKENZIE MORTGAGE COMPANY | EUGENE | OR
MCM MORTGAGE CORPORATION | OGDEN | UT
MCM SAVINGS BANK FSB | HANNIBAL | MO
MECHANICS BANK—RICHMOND | RICHMOND | CA
MEDFORD SAVINGS BANK | MEDFORD | MA
MEGA CAPITAL FUNDING INC | NORTHRIDGE | CA
MERIT FINANCE COM INC | VINELAND | NJ
METROBANK | INDIANAPOLIS | IN
METROBANK NATIONAL ASSOCIATION | HOUSTON | TX
METROCREST MORTGAGE INCORPORATED | DALLAS | TX
METROPOLITAN FINANCIAL GROUP INC | TUKWILA | WA
METROPOLITAN MORTGAGE FIN SER COR | HYATTSVILLE | MD
METROPOLITAN SAVINGS BANK | HIGHLAND HILLS | OH
METUCHEN ASSEMBLERS F C U | EDISON | NJ
MEW ENTERPRISES INC | MABLETON | GA
MIAMI MORTGAGE INC | MIAMI | FL
MILLENNIUM PLUS MORTGAGE INC | SOUTH HOLLAND | IL
MINNESOTA LIFE | SAINT PAUL | MN
MINROB MANSIONS INC | MINEOLA | NY
MISSION MORTGAGE INC | INDIANAPOLIS | IN
MITSUI MANUFACTURERS BANK | LOS ANGELES | CA
MODINE TELEDYNE FEDERAL CREDIT UNION | LAPORTE | IN
MOJAVE VALLEY MORTGAGE CORP | VICTORVILLE | CA
MONDRIAN MORTGAGE CORPORATION | HOUSTON | TX
MONETARY FUNDING GROUP OF CONNECTICUT | NAUGATUCK | CT
MONTICELLO BANKING CO | MONTICELLO | KY
MONUMENT MORTGAGE INC | SAN RAMON | CA
MORTECH FINANCIAL CORPORATION | DALLAS | TX
MORTGAGE ACCEPTANCE CORP | OCEANSIDE | CA
MORTGAGE ACCESS INC | LAKE WORTH | FL
MORTGAGE CAPITAL AMERICA INC | LAUDERHILL | FL
MORTGAGE CAPITAL GROUP LLC | PLAINVILLE | CT
MORTGAGE CIRLE—COM INC | PEMBROKE PINES | FL
MORTGAGE CO OF AMERICA | RANCHO CUCAMONGA | CA
MORTGAGE CONNECTION | SMYRNA | GA
MORTGAGE CONNECTION COMPANY | LINCOLNWOOD | IL
MORTGAGE DEPOT LLP | NASHVILLE | TN
MORTGAGE EXECUTIVES LLC | ENGLEWOOD | CO
MORTGAGE FINANCE AMERICA INC | ANAHEIM | CA
MORTGAGE GROUP | HONOLULU | HI
MORTGAGE LENDERS INC | OLATHE | KS
MORTGAGE NETWORK LP | AUSTIN | TX
MORTGAGE ONE CORPORATION | COLUMBIA | SC
MORTGAGE SECURITY INC | EAST FALMOUTH | MA
MORTGAGE SOLUTIONS | LANGHORNE | PA
MORTGAGE SPECIALISTS | OAK BROOK | IL
MORTGAGE STORE INC | MARIETTA | GA
MORTGAGE UNLIMITED LLC | LEONIA | NJ
MORTGAGE USA INC | SILVER SPRING | MD
MORTGAGE WEST LLC | LAKEWOOD | CO
MORTGAGES PLUS INC | NOGALES | AZ
MOUNTAIN STATES BANK | DENVER | CO
MOUNTAIN WEST MORTGAGE INC | MIDVALE | UT
MUNDACA FINANCIAL SERVICES LLC | FRANKLIN | TN
MUNFORD UNION BANK | ATOKA | TN
MUNICIPAL MORTGAGE CORP | MIAMI | FL
MUTUAL COMMUNITY SAVINGS BANK INC SSB | DURHAM | NC
MUTUAL FINANCIAL SERVICES LLC | MESA | AZ
MUTUAL OF NORTH AMERICA INC | MELVILLE | NY
MYSTIKAL MORTGAGE GROUP INC | LAWRENCEVILLE | GA
MZ MORTGAGE INC | CHICAGO | IL
NALLY AND COMPANY | LOUISVILLE | KY
NATIONAL BANK OF NEWPORT | NEWPORT | TN
NATIONS BANCORP INC | WEST COVINA | CA
NATIONWIDE FINANCIAL CORPORATION | BREA | CA
NATIONWIDE INVESTMENT SERV CORP | SOUTHFIELD | MI
NATIONWIDE LIFE INS CO COLUMBU | COLUMBUS | OH
NATIONWIDE MORTGAGE CORP | SAINT LOUIS | MO
NDNJ INC | RANCHO PALOS VERDES | CA
NEBRASKA ENERGY FEDERAL CREDIT UNION | COLUMBUS | NE
NEIGHBORHOOD ACCEPTANCE CORP | COSTA MESA | CA
NEIGHBORHOOD MORTGAGE CORPORATION | KANSAS CITY | MO
NEW AMERICAN REAL ESTATE MGTMT GROUP INC | NEWPORT BEACH | CA
NEW MILLENIUM INVESTMENTS INC | FONTANA | CA
NEW MILLENNIUM MORTGAGE | ST LOUIS | MO
NEW YORK COMMUNITY BANK | FLUSHING | NY
NEXUS FINANCIAL INC | FRESNO | CA
NIKKI JOON INC | ALISO VIEJO | CA
NIMA INVESTMENT CO | WESTLAKE VILLAGE | CA
NMI GROUP INC | KANSAS CITY | MO
NORLARCO CREDIT UNION | FORT COLLINS | CO
NORTHEAST MORTGAGE LLC | CRANSTON | RI
NORTHERN HOME FUNDING CORP | WHITE PLAINS | NY
NORTHERN MORTGAGE COMPANY INC | SPRING LAKE PARK | MN
NORTHLAND FUNDING GROUP LLC | AUSTIN | TX
NORTHLAWN FINANCIAL INC | BIRMINGHAM | MI
NORTHPOINT CAPITAL INC | NORCROSS | GA
NORTHWESTERN MUTUAL LIFE IN CO | MILWAUKEE | WI
NUTMEG MORTGAGE COMPANY LLC | NORTH HAVEN | CT
OCEAN CITY HOME BANK | OCEAN CITY | NJ
OCEANFRONT MORTGAGE INC | SAN DIEGO | CA
OKLAHOMA EMPLOYEES CREDIT UNION | OKLAHOMA CITY | OK
OLM FINANCIAL GROUP INC | DUBLIN | OH
OLYMPUS SERVICING LP | AUSTIN | TX
OMNI MORTGAGE CORPORATION | PLANO | TX
OREGON PACIFIC BANKING CO | FLORENCE | OR
ORNL FEDERAL CREDIT UNION | OAK RIDGE | TN
PACIFIC GROUP MORTGAGE INC | LAS VEGAS | NV
PACIFIC INDEPENDENCE FINANCE | ENCINO | CA
PACIFIC NORTHWEST BANK | OAK HARBOR | WA
PACIFIC RESIDENTIAL LENDING CORPORATION | SAN DIMAS | CA
PACIFIC TRUST BANK CHULA | VISTA | CA
PAL FINANCIAL CORP | EVERETT | MA
PALM BEACH NATIONAL BANK AND TRUST CO | PALM BEACH GARDENS | FL
PARTNERS GROUP MORTGAGE | CONSHOHOCKEN | PA
PARTNERS LEND AMERICA LLC | HOUSTON | TX
PATRIOT NATIONAL BANK | HAUPPAUGE | NY
PAVILION STATE BANK | PAVILION | NY
PBK BANK INC | RICHMOND | KY
PCMG INC | SANTA ANA | CA
PEAK FINANCIAL SERVICES INC | MIAMI | FL
PENTUCKET FIVE CENTS SAVINGS BANK | HAVERHILL | MA
PERCENTAGE EQUITY INVESTORS INC | NORTH MIAMI BEACH | FL
PINNACLE FINANCIAL SERVICES | CHEYENNE | WY
PIONEER FEDERAL CREDIT UNION | MOUNTAIN HOME | ID
PIONEER MORTGAGE SERVICES INC | GREELEY | CO
PNC BANK DELAWARE | WILMINGTON | DE
PORT BYRON STATE BANK | PORT BYRON | IL
PORTSMOUTH MORTGAGE CO INC | HAMPTON FALLS | NH
POWDER HOUSE MORTGAGE CO INC | SOMERVILLE | MA
POWER REALTY TEXAS INC | ABILENE | TX
PPMG INC | TUSTIN | CA
PRASKI MORTGAGE INC | LAKEWOOD | CO
PREFERRED MORTGAGE GROUP INC | JACKSONVILLE | FL
PREMIER ADVANTAGE HOME LOANS | CONCORD | CA
PREMIER EQUITY FINANCIAL INC | DAVENPORT | FL
PREMIER FINANCIAL AND INVESTMENT GR INC | UPLAND | CA
PREMIUM MORTGAGE AND INVESTMENTS INC | CORAL GABLES | FL
PRIME LINE MORTGAGE CORP | SHERMAN OAKS | CA
PRIMIDOM LENDING CORPORATION | DALLAS | TX
PRO EQUITY MORTGAGE INC | CHARLOTTE | NC
PROSOURCE MORTGAGE INC | KANSAS CITY | MO
PRYME INVESTMENT AND MTG BROKERS INC | MURRAY | UT
PTJM INC | REEDLEY | CA
QFUND FINANCIAL INC | BELLEVUE | WA
QUAKER CITY FEDERAL SAVINGS AND LN ASSOC | WHITTIER | CA
QUALITA FINANCIAL GROUP INC | CORAL GABLES | FL
QUALITY FINANCIAL INC | BUENA PARK | CA
QUALITY FUNDING SERVICES INC | PALOS HILLS | IL
QUESTAR FINANCIAL INC | DANVILLE | CA
QUESTSTAR MORTGAGE INC | SUWANEE | GA
QUORUM FINANCIAL SERVICES INC | SAN ANTONIO | TX
R AND G FEDERAL SAVINGS BANK | GUAYNABO | PR
RAINBOW CAPITAL MORTGAGE CORPORATION | CARSON | CA
RAMSEY NATIONAL BANK AND TR CO DEVIL LK | DEVILS LAKE | ND
RANDALL FUNDING CORPORATION | VALENCIA | CA
RANDOLPH BANK AND TRUST CO | ASHEBORO | NC
RANTOUL FIRST BANK SB | RANTOUL | IL
REAL ESTATE FINANCIAL ASSESSORS INC | MONTEBELLO | CA
REAL ESTATE FINANCIAL SVCS INC | ALPHARETTA | GA
REAL ESTATE PLUS MORTGAGE | REDONDO BEACH | CA
REALTORS MORTGAGE SERVICES INC | ORLANDO | FL
REGIONAL FINANCIAL GROUP INC | DEARBORN HEIGHTS | MI
REPUBLIC MORTGAGE LOANS INC | MIAMI | FL
RESIDENTIAL BLDG AND MTG RESO | FENTON | MO
RESIDENTIAL CAPITAL CORPORATION | LAS VEGAS | NV
RESIDENTIAL MORTGAGE CENTER INC | ROCKVILLE | MD
RESOURCE BANK | COVINGTON | LA
RIVER VALLEY MORTGAGE INC | ROSEVILLE | MN
ROBINSON GROUP MORTGAGE INC | SEATTLE | WA
ROCKY MOUNTAIN LAW ENFORCEMENT F C U | DENVER | CO
RONZETTI MORTGAGE AND INVESTMENT | FAIRFAX | VA
ROUSSEAU MORTGAGE CORPORATION | HOUSTON | TX
S AND S FINANCIAL INC | WOODLAND HILLS | CA
S MORTGAGE CORP | FAIR OAKS | CA
SALCORP MORTGAGAE | IRVINE | CA
SALEM FIVE MORTGAGE CORP | SALEM | MA
SAN FRANCISCO FUNDING INC | NOVATO | CA
SAN VICENTE MORTGAGE CORP | RAMONA | CA
SEACOAST EQUITIES INC | LA MESA | CA
SECURITY BANK | RICH HILL | MO
SECURITY BANK AND TRUST CO | GLENCOE | MN
SECURITY FEDERAL BANK FSB | SAINT JOHN | IN
SECURITY FINANCIAL SERVICES | LOS ANGELES | CA
SECURITY FIRST NETWORK BANK | ATLANTA | GA
SECURITY LENDING OF UTAH INC | SALT LAKE | UT
SECURITY MORTGAGE FUNDING INC | CANTON | GA
SECURITY ST BANK FERGUS FALLS | FERGUS FALLS | MN
SELECT CAPITAL MORTGAGE CO | BELLEVUE | WA
SELECT HOME LOANS INC | SAN JACINTO | CA
SELECT MORTGAGE INC | BURNET | TX
SIERRA REAL ESTATE SERVICE INC | FRESNO | CA
SIGNATURE BANC AND LENDING LTD | DAYTON | OH
SLEEPY HOLLOW NATIONAL BANK | SLEEPY HOLLOW | NY
SMACKOVER STATE BANK | SMACKOVER | AR
SOLARO FINANCIAL INC | RANCHO PALOS VERDES | CA
SOUTH HOLLAND MORTGAGE LLC | SOUTH HOLLAND | IL
SOUTHEAST FINANCIAL CORPORATION | MIAMI LAKES | FL
SOUTHEAST LENDING GROUP INC | SARASOTA | FL
SOUTHERN COMMUNITY HOME LOANS | HUNTSVILLE | AL
SOUTHERN EXCHANGE BANK | TAMPA | FL
SOUTHERN FINANCE MORTGAGE CORPORATION | MIAMI | FL
SOUTHERN LENDING CORPORATION | AUSTIN | TX
SOUTHERN NICHIGAN BANK | COLDWATER | MI
SOUTHPOINTE MORTGAGE CO INC OF SC | CAYCE | SC
SOUTHWEST BANK OF ST LOUIS | ST LOUIS | MO
SOUTHWEST FINANCIAL SERVICES LLC | CHARLOTTE | NC
SOVEREIGN FINANCIAL CORPORATION | ATLANTA | GA
SPECTRUM MORTGAGE CORPORATION | EL DORADO HILLS | CA
SQUARE ONE MORTGAGE INC | HAZELTON | PA
ST JAMES FEDERAL SAVINGS AND LOAN ASSN | ST JAMES | MN
ST MARY'S AREA FEDERAL CREDIT UNION | ST MARY'S | PA
STATE BANK OF SOUTHERN UTAH | CEDAR CITY | UT
STATE CENTRAL CREDIT UNION | MILWAUKEE | WI
STATE STREET BANK AND TRUST CO | BOSTON | MA
STATE STREET BANK AND TRUST COMPANY NA | NEW YORK | NY
STATE STREET BANK AND TRUST CT | HARTFORD | CT
STATEN ISLAND SAVINGS BANK | STATEN ISLAND | NY
STEPSTONE MORTGAGE COMPANY INC | MARBLEHEAD | MA
STERLING LENDING GROUP INC | BETHEL | CT
STONEGATE PRODUCTIONS INC | ATHENS | GA
SUNAMERICA LIFE INSURANCE CO | LOS ANGELES | CA
SUNLENDING MORTGAGE CORP | CORAL GABLES | FL
SUNTRUST BANK | ATLANTA | GA
SURETY MORTGAGE INC | COLUMBIA | SC
SURFSIDE MORTGAGE INC | BELLFLOWER | CA
SUTTER WEST CAPITAL MORTGAGE INC | SANTA ROSA | CA
T J ROSE FINANCIAL SERVICES INC | TAMPA | FL
TARGET MORTGAGE CORP | LAUDERDALE LAKES | FL
TEAM ONE MORTGAGE INC | ROSWELL | GA
TECHNICAL MORTGAGE LP | SUGARLAND | TX
TEXAS SAVINGS BANK FSB | SNYDER | TX
TEXAS SUPREME MORTGAGE INC | HOUSTON | TX
THE GORDON BANK | GORDON | GA
THREE RIVERS BANK AND TRUST CO | MONROEVILLE | PA
TLC MORTGAGE CORPORATION | OREM | UT
TOLLAND BANK | VERNON | CT
TOWLE FINANCIAL SERVICES | MINNEAPOLIS | MN
TOWNE MORTGAGE EASTPOINTE LLC | EASTPOINTE | MI
TRIANGLE MORTGAGE CENTER | MIAMI | FL
TRI-CITY MORTGAGE LLC | LOVELAND | CO
U S BANK NA | NEW YORK | NY
U S MORTGAGE COMPANY | BAY HARBOR ISLAND | FL
UNION ADVANTAGE HOME LOANS INC | LODI | CA
UNION AMERICAN MORTGAGE SERVICES LLC | NASHVILLE | TN
UNION BANK | NORTH PROVIDENCE | RI
UNION BANK CALIFORNIA NA | SAN DIEGO | CA
UNION PLANTERS BANK OF THE LAKEWAY AREA | MORRISTOWN | TN
UNITED AMERICAN FUNDING CORP | POMPANO BEACH | FL
UNITED BANK | ST PETERSBURG | FL
UNITED BUSINESS AND INDUSTRY FED CR UNIO | PLAINVILLE | CT
UNITED COMMUNITY BANK WEST GEORGIA | CARROLLTON | GA
UNITED GENERAL MORTGAGE CORP | BETHLEHEM | PA
UNITED HOME LOANS CORPORATION | LONGMONT | CO
UNITED HOME MORTGAGE CORPORATION | DES PLAINES | IL
UNITED LABOR CREDIT UNION | KANSAS CITY | MO
UNITED NATIONAL BANK | BRIDGEWATER | NJ
UNIVERSITY FEDERAL CREDIT UNION | BIRMINGHAM | AL
UPTOWN MORTGAGE CORPORATION | WHITTIER | CA
US MORTGAGE CORPORATION | PROVO | UT
VALENCIA BANK AND TRUST | NEWHALL | CA
VALLEY BANK BELGRADE | BELGRADE | MT
VALLEY HEIGHTS FUNDING | RIVERSIDE | CA
VALLEY STATE BANK LAMAR | LAMAR | CO
VAN CAMP MORTGAGE LLC | SOUTH BEND | IN
VILLAGE FINANCIAL SERVICES LLC | ORLANDO | FL
VIRGINIA STATE MORTGAGE INC | ROANOKE | VA
VONROPE MORTGAGE CORPORATION | POMONA | CA
WACHOVIA BANK NA | WINSTON-SALEM | NC
WALL STREET MORTGAGE CORP | GAITHERSBURG | MD
WALMAR FINANCIAL CORPORATION | IRVINE | CA
WASHINGTON MUTUAL BANK FA | STOCKTON | CA
WASHINGTON MUTUAL BANK FA DIME | HICKSVILLE | NY
WASHINGTON MUTUAL BK FA-WMHLI-FMC | COLUMBIA | SC
WATERFIELD MORTGAGE CO INC | FORT WAYNE | IN
WESTERN HOME LOANS INC | ARCADIA | CA
WESTERN MORTGAGE EXPRESS | EL CENTRO | CA
WESTERN PACIFIC LOANS INC | SANTA ROSA | CA
WHITLEY MORTGAGE ASSOCIATES | MONROE | NC
WHOLESALE FINANCIAL MORTGAGE CORP | SCHAUMBURG | IL
WILLIAM GREGORY MORTGAGE INC | LOS ANGELES | CA
WINDY CITY FINANCIAL MORTGAGE CORPORATIO | CHICAGO | IL
WOODHAVEN FINANCIAL SERVICES LTD | DALLAS | TX
WOODSTOWN NATIONAL BANK | WOODSTOWN | NJ
WOODWARD FINANCIAL SERVICES INC | BLOOMFIELD HILLS | MI
WORLD MORTGAGE INC | CHAMBLEE | GA
WORLDWIDE DIVERSIFIED FUNDING HMC INC | FT PIERCE | FL
Y AND S MORTGAGE LLC | GROVE CITY | OH
YIG INC | WEST COVINA | CA
YOSEMITE BROKERAGE INC | BRIDGE CITY | TX

Dated: February 20, 2004.
John C. Weicher,
Assistant Secretary for Housing-Federal, Housing Commissioner, Chairman Mortgagee Review Board.

[FR Doc. 04-4305 Filed 2-26-04; 8:45 am]

BILLING CODE 4210-27-P